DEPARTMENT OF TRANSPORTATION

National Highway Traffic Safety Administration

[Docket No. NHTSA-2000-7139]

Notice of Receipt of Petition for Decision that Nonconforming 1999-2000 Mercedes Benz Gelaendewagen Multi-Purpose Passenger Vehicles Are Eligible for Importation

AGENCY: National Highway Traffic Safety Administration, DOT.

ACTION: Notice of receipt of petition for decision that nonconforming 1999-2000 Mercedes Benz Gelaendewagen multi-purpose passenger vehicles (MPVs) are eligible for importation.

SUMMARY: This document announces receipt by the National Highway Traffic Safety Administration (NHTSA) of a petition for a decision that 1999-2000 Mercedes Benz Gelaendewagen MPVs that were not originally manufactured to comply with all applicable Federal motor vehicle safety standards are eligible for importation into the United States because (1) They are substantially similar to vehicles that were originally manufactured for importation into and sale in the United States and that were certified by their manufacturer as complying with the safety standards, and (2) they are capable of being readily altered to conform to the standards.

DATES: The closing date for comments on the petition is August 18, 2000.

ADDRESS: Comments should refer to the docket number and notice number, and be submitted to: Docket Management, Room PL-401, 400 Seventh St., SW, Washington, DC 20590. [Docket hours are from 9 am to 5 pm]

FOR FURTHER INFORMATION CONTACT: George Entwistle, Office of Vehicle Safety Compliance, NHTSA (202-366-5306).

SUPPLEMENTARY INFORMATION:

Background

Under 49 U.S.C. 30141 (a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register

J.K. Motors of Baltimore, Maryland (“J.K.”) (Registered Importer 90-006) has petitioned NHTSA to decide whether 1999-2000 Mercedes Benz Gelaendewagen MPVs are eligible for importation into the United States. The vehicles which J.K. believes are substantially similar are 1999-2000 Mercedes Benz Gelaendewagen MPVs that were manufactured for importation into, and sale in, the United States, and certified by Europa International, Inc. (“Europa”), as conforming to all applicable Federal motor vehicle safety standards, prior to their importation into the United States.

By way of explanation, in March 1998, Daimler Benz, A.G., as the company was then known, provided a letter of understanding to Europa under which Gelaendewagens manufactured in Graz, Austria, would be produced to Europa's specifications, and then shipped to a Mercedes facility in Germany for installation of additional electronic equipment (OBD II) needed to effect compliance with Federal emissions control requirements. DaimlerChrysler A.G. modified the letter of understanding in December 1999 to state that incomplete vehicles, for which it would make no representation of compliance, would be sent to the German facility for completion. At the end of either process, Europa certifies compliance with all applicable Federal requirements of the Department of Transportation and the Environmental Protection Agency. Under these factual circumstances, the agency regards Europa as the “manufacturer” of the Gelaendewagens that it has certified to U.S. standards, and JK Imports as entitled to petition for an eligibility determination on the basis that the Gelaendewagens it wishes to import are substantially similar to vehicles certified by their original manufacturer for sale in the United States.

The petitioner claims that it carefully compared non-U.S. certified 1999-2000 Mercedes Benz Gelaendewagen MPVs to their U.S.-certified counterparts, and found the vehicles to be substantially similar with respect to compliance with most Federal motor vehicle safety standards.

J.K. submitted information with its petition intended to demonstrate that non-U.S. certified 1999-2000 Mercedes Benz Gelaendewagen MPVs, as originally manufactured, conform to many Federal motor vehicle safety standards in the same manner as their U.S. certified counterparts, or are capable of being readily altered to conform to those standards.

Specifically, the petitioner claims that non-U.S. certified 1999-2000 Mercedes Benz Gelaendewagen MPVs are identical to their U.S. certified counterparts with respect to compliance with Standard Nos. 102 Transmission Shift Lever Sequence * * *, 103 Defrosting and Defogging Systems, 104 Windshield Wiping and Washing Systems, 105 Hydraulic Brake Systems, 106 Brake Hoses, 113 Hood Latch Systems, 116 Brake Fluid, 119 New Pneumatic Tires for Vehicles other than Passengers Cars, 124 Accelerator Control Systems, 201 Occupant Protection in Interior Impact, 202 Head Restraints, 204 Steering Control Rearward Displacement, 205 Glazing Materials, 206 Door Locks and Door Retention Components, 207 Seating Systems, 209 Seat Belt Assemblies, 210 Seat Belt Assembly Anchorages, 212 Windshield Retention, 216 Roof Crush Resistance, 219 Windshield Zone Intrusion, 301 Fuel System Integrity, and 302 Flammability of Interior Materials.

Petitioner also contends that the vehicles are capable of being readily altered to meet the following standards, in the manner indicated:

Standard No. 101 Controls and Displays: (a) substitution of a lens marked “Brake” for a lens with a noncomplying symbol on the brake failure indicator lamp; (b) replacement of the speedometer with one calibrated in miles per hour.

Standard No. 108 Lamps, Reflective Devices and Associated Equipment: (a) Installation of U.S.-model headlamps and front sidemarker lamps; (b) modification of U.S.-model taillamp assemblies and addition of U.S.-model marker light assemblies; (c) installation of a U.S.-model high mounted stop lamp assembly.

Standard No. 111 Rearview Mirror: replacement of the passenger side rearview mirror with a U.S.-model component etched with the appropriate warning statement.

Standard No. 114 Theft Protection: installation of a warning buzzer and a warner buzzer microswitch in the steering lock assembly on vehicles that are not already so equipped.

Standard No. 118 Power Window Systems: installation, on vehicles that are not already so equipped, of a relay in the power window system so that the windows will not operate when the ignition is switched off.

Standard No. 120 Tire Selection and Rims for Motor Vehicles other than Passenger Cars: installation of a tire information placard.

Standard No. 208 Occupant Crash Protection: (a) Installation of a seat belt warning buzzer, wired to the driver's seat belt latch; (b) inspection of all vehicles imported and replacement of the air bags, control units, sensors, and seat belts with U.S.-model components on vehicles that are not already so equipped. The petitioner states that the vehicles are equipped with driver's and passenger's side air bags and knee bolsters, with combination lap and shoulder belts that are self-tensioning and that release by means of a single red push button at the front and rear outboard seating positions, and with a lap belt at the rear center seating position.

Standard No. 214 Side Impact Protection: Installation of doorbars in vehicles that are not already so equipped.

Before submitting its request, the petitioner asked on July 2, 1999, for a determination of confidentiality regarding certain modifications it planned to make in conforming the vehicle to FMVSS No. 108 and 208. The petitioner asserted that the engineering modifications necessary for testing were substantial and considered proprietary due to the expense of development, and that the information could result in substantial competitive harm if disclosed. The agency granted the petitioner's request on September 1, 1999. Accordingly, the petition that was filed on April 4, 2000, and that is available to the public states, with respect to FMVSS No. 108 that the modifications to the taillamp assemblies have been previously granted confidentiality. With respect to FMVSS No. 208, the petition states that “This vehicle will meet frontal impact test requirements with structural modifications described in a submission that has been granted confidentiality by NHTSA's Office of Chief Counsel under 49 CFR 512.”

The petitioner also states that a vehicle identification plate must be affixed to the vehicle near the left windshield post and a reference and certification label must be affixed in the area of the left front door post to to meet the requirements of 49 CFR part 565.

Interested persons are invited to submit comments on the petition described above. Comments should refer to the docket number and be submitted to: Docket Management, Room PL-401, 400 Seventh St., SW., Washington, DC 20590. [Docket hours are from 9 am to 5 pm]. It is requested but not required that 10 copies be submitted.

All comments received before the close of business on the closing date indicated above will be considered, and will be available for examination in the docket at the above address both before and after the closing date will also be considered. Notice of final action on the petition will be published in the Federal Register pursuant to the authority indicated below.

Authority: 49 U.S.C. 30141(a)(1)(A) and (b)(1); 49 CFR 593.8; delegations of authority at 49 CFR 1.50 and 501.8.

Issued on July 13, 2000.
Marilynne Jacobs,
Director, Office of Vehicle Safety Compliance.

[FR Doc. 00-18246 Filed 7-18-00; 8:45 am]

BILLING CODE 4910-59-P